ENVIRONMENTAL PROTECTION AGENCY

40 CFR Part 52

[EPA-R04-OAR-2018-0544; FRL-9988-02-Region 4]

Air Plan Approval; Alabama; Regional Haze Progress Report

AGENCY: Environmental Protection Agency (EPA).

ACTION: Proposed rule.

SUMMARY: The Environmental Protection Agency (EPA) is proposing to approve a State Implementation Plan (SIP) revision submitted by the State of Alabama through the Alabama Department of Environmental Management (ADEM) with a letter dated June 26, 2018. Alabama's SIP revision (Progress Report) addresses requirements of the Clean Air Act (CAA or Act) and EPA's rules that require each state to submit periodic reports describing progress towards reasonable progress goals (RPGs) established for regional haze and a determination of the adequacy of the State's existing SIP addressing regional haze (regional haze plan). EPA is proposing to approve Alabama's determination that the State's regional haze plan is adequate to meet these RPGs for the first implementation period covering through 2018 and requires no substantive revision at this time.

DATES: Comments must be received on or before January 8, 2019.

ADDRESSES: Submit your comments, identified by Docket ID No. EPA-R04-OAR-2018-0544 at http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: D. Brad Akers, Air Regulatory Management Section, Air Planning and Implementation Branch, Air, Pesticides and Toxics Management Division, U.S. Environmental Protection Agency, Region 4, 61 Forsyth Street SW, Atlanta, Georgia 30303-8960. Mr. Akers can be reached via telephone at (404) 562-9089 or electronic mail at akers.brad@epa.gov.

SUPPLEMENTARY INFORMATION:

I. Background

States are required to submit progress reports that evaluate progress towards the RPGs for each mandatory Class I federal area ¹ (Class I area) within the state and for each Class I area outside the state which may be affected by emissions from within the state. See 40 CFR 51.308(g). In addition, the provisions of 40 CFR 51.308(h) require states to submit, at the same time as the 40 CFR 51.308(g) progress reports, a determination of the adequacy of the state's existing regional haze plan. The first progress report is due five years after submittal of the initial regional haze plan and must be submitted as a SIP revision. Alabama submitted its regional haze plan on July 15, 2008, as later amended in a SIP revision submitted on October 26, 2015.

¹ Areas designated as mandatory Class I federal areas consist of national parks exceeding 6,000 acres, wilderness areas and national memorial parks exceeding 5,000 acres, and all international parks that were in existence on August 7, 1977 (42 U.S.C. 7472(a)). Listed at 40 CFR part 81 Subpart D.

Like many other states subject to the Clean Air Interstate Rule (CAIR), Alabama relied on CAIR in its regional haze plan to meet certain requirements of EPA's Regional Haze Rule, including best available retrofit technology (BART) requirements for emissions of sulfur dioxide (SO2) and nitrogen oxides (NOX) from certain electric generating units (EGUs) in the State.² This reliance was consistent with EPA's regulations at the time that Alabama developed its regional haze plan. See 70 FR 39104 (July 6, 2005). However, in 2008, the United States Court of Appeals for the District of Columbia Circuit (D.C. Circuit) remanded CAIR to EPA without vacatur to preserve the environmental benefits provided by CAIR. North Carolina v. EPA, 550 F.3d 1176, 1178 (D.C. Cir. 2008). On August 8, 2011 (76 FR 48208), acting on the D.C. Circuit's remand, EPA promulgated the Cross-State Air Pollution Rule (CSAPR) to replace CAIR and issued Federal Implementation Plans (FIPs) to implement the rule in CSAPR-subject states.³ Implementation of CSAPR was scheduled to begin on January 1, 2012, when CSAPR would have superseded the CAIR program. However, numerous parties filed petitions for review of CSAPR, and at the end of 2011, the D.C. Circuit issued an order staying CSAPR pending resolution of the petitions and directing EPA to continue to administer CAIR. Order of December 30, 2011, in EME Homer City Generation, L.P. v. EPA, D.C. Cir. No. 11-1302.

² CAIR required certain states, including Alabama, to reduce emissions of SO2 and NOX that significantly contribute to downwind nonattainment of the 1997 National Ambient Air Quality Standard (NAAQS) for fine particulate matter (PM2.5) and ozone. See 70 FR 25162 (May 12, 2005).

³ CSAPR requires substantial reductions of SO2 and NOX emissions from EGUs in 27 states in the Eastern United States that significantly contribute to downwind nonattainment of the 1997 PM2.5 and ozone NAAQS, 2006 PM2.5 NAAQS, and the 2008 8-hour ozone NAAQS.

On June 28, 2012 (77 FR 38515), EPA finalized a limited approval of Alabama's regional haze plan as meeting some of the applicable regional haze requirements as set forth in sections 169A and 169B of the CAA and in 40 CFR 51.300-308. Separately, in a June 7, 2012 (77 FR 33642), action, EPA finalized a limited disapproval of Alabama's regional haze plan because of deficiencies arising from the State's reliance on CAIR to satisfy certain regional haze requirements. Also on June 7, 2012, EPA promulgated FIPs to replace reliance on CAIR with reliance on CSAPR to address deficiencies in CAIR-dependent regional haze plans of several states, including Alabama's regional haze plan. Following additional litigation and the lifting of the stay, EPA began implementation of CSAPR on January 1, 2015.

Certain CSAPR Phase 2 emissions budgets were remanded to EPA for reconsideration.⁴ However, the CSAPR trading programs remained in effect and all CSAPR emissions budgets likewise remained in effect while EPA addressed the remands. The remanded budgets included the CSAPR Phase 2 SO2 emissions budget applicable to Alabama units under the federal CSAPR SO2 Group 2 Trading Program. On October 26, 2015, Alabama submitted a SIP revision to EPA which sought to adopt CSAPR at the state level and to change reliance from CAIR to CSAPR for certain regional haze requirements. This submittal also adopted the remanded SO2 Phase 2 budget for the State. EPA approved portions of the October 26, 2015, submittal on August 31, 2016 (81 FR 59869), including the adoption of CSAPR unit requirements for SO2 and NOX annual trading programs, thereby replacing the FIP obligations in the State for these two programs.⁵ The August 31, 2016, final rule also approved Alabama's adoption of the remanded federal SO2 Phase 2 budget.

⁴ EME Homer City Generation, L.P. v. EPA, 795 F.3d 118, 138 (D.C. Cir. 2015).

⁵ Large EGUs in Alabama were subject to additional CSAPR FIP provisions requiring them to participate in the federal CSAPR NOX ozone season trading program. While Alabama's October 26, 2015, SIP submittal also sought to replace the CSAPR FIP requirements addressing Alabama units' ozone-season NOX emissions, EPA did not act on that portion of the SIP submittal until October 6, 2017, when it acted on Alabama's May 19, 2017 SIP revision. See 82 FR 46674.

Subsequently, on May 19, 2017, Alabama submitted a SIP revision to address additional requirements for the NOX ozone season requirements for CSAPR. On October 6, 2017 (82 FR 46674), EPA approved Alabama's adoption of a state allowance trading program to replace federal NOX ozone season requirements under CSAPR, thereby replacing the remainder of the CSAPR FIP. On October 12, 2017, EPA approved the regional haze portion of Alabama's October 26, 2015 (82 FR 47393), SIP submission to change reliance from CAIR to CSAPR for certain regional haze requirements and converted EPA's limited approval/limited disapproval to a full approval.

On June 27, 2018,⁶ Alabama submitted its Progress Report which, among other things, details the progress made in the first period toward implementation of the long term strategy outlined in the State's regional haze plan; the visibility improvement measured at the Sipsey Wilderness Area (the only Class I area within Alabama); and a determination of the adequacy of the State's existing regional haze plan. EPA is proposing to approve Alabama's June 26, 2018, Progress Report for the reasons discussed below.

⁶ EPA notes that the cover letter was dated June 26, 2018. The submittal date is the date of receipt, which was June 27, 2018.

II. EPA's Evaluation of Alabama's Progress Report and Adequacy Determination

A. Regional Haze Progress Report

This section includes EPA's analysis of Alabama's Progress Report and an explanation of the basis for the Agency's proposed approval.

1. Control Measures

In its Progress Report, Alabama summarizes the status of the emissions reduction measures that were relied upon by the State in its regional haze plan and included in the final iteration of the Visibility Improvement State and Tribal Association of the Southeast (VISTAS) regional haze emissions inventory and RPG modeling used by the State in developing its regional haze plan. The measures include, among other things, applicable federal programs (e.g., mobile source rules, Maximum Achievable Control Technology standards), federal consent agreements, and federal control strategies for EGUs. Alabama also reviewed the status of BART requirements for the two BART-subject sources for NOX and SO2 in the State—Solutia, Inc., Decatur facility and International Paper Company, Courtland facility—and described several court decisions addressing CAIR and CSAPR.⁷

⁷ Progress Report, pp. 9-11.

As discussed in Section I of this notice, a number of states, including Alabama, submitted regional haze plans that relied on CAIR to meet certain regional haze requirements. EPA finalized a limited disapproval of Alabama's 2008 regional haze plan due to this reliance and promulgated a FIP to replace the State's reliance on CAIR with reliance on CSAPR. Although a number of parties challenged the legality of CSAPR and the D.C. Circuit initially vacated and remanded CSAPR to EPA in EME Homer City Generation, L.P. v. EPA, 696 F.3d 7 (D.C. Cir. 2012), the United States Supreme Court reversed the D.C. Circuit's decision on April 29, 2014, and remanded the case to the D.C. Circuit to resolve remaining issues in accordance with the high court's ruling. EPA v. EME Homer City Generation, L.P., 134 S. Ct. 1584 (2014). On remand, the D.C. Circuit affirmed CSAPR in most respects, and CSAPR is now in effect. EME Homer City Generation, L.P. v. EPA, 795 F.3d 118 (D.C. Cir. 2015). Because CSAPR should result in greater emissions reductions of SO2 and NOX than CAIR throughout the affected region, EPA expects Alabama to maintain and continue its progress towards its RPGs for 2018 through continued, and additional, SO2 and NOX reductions. See generally 76 FR 48208 (August 8, 2011).

In the State's 2008 regional haze plan and Progress Report, Alabama focuses its assessment on SO2 emissions from EGUs because of VISTAS' findings that ammonium sulfate accounted for 69-87 percent of the visibility-impairing pollution in the VISTAS states and roughly 75 percent of the visibility-impairing pollution at the Sipsey Wilderness Area on the 20 percent worst visibility days. Alabama determined in its 2008 regional haze plan that no additional controls for sources in the State were needed to make reasonable progress for SO2 during the first implementation period.⁸ In its regional haze plan, Alabama identified 19 Alabama EGUs at six facilities located in the area of influence of Alabama's Class I area using the State's methodology for determining sources eligible for a reasonable progress control determination. Because these 19 EGUs were subject to CAIR and the Sipsey Wilderness Area was projected to exceed the uniform rate of progress during the first implementation period, ADEM opted not to require any additional emissions reductions for reasonable progress for the first implementation period.⁹ Alabama's Progress Report indicates that SO2 emissions from all in-state EGUs have decreased by approximately 71 percent from 2002 to 2012.

⁸ See 77 FR 11937, 11946 (February 28, 2012).

⁹ See 77 FR 11949 and Section 7.6 of Alabama's 2008 regional haze plan.

Because many states had not yet defined their criteria for identifying sources to evaluate for reasonable progress at the time Alabama was developing the State's 2008 regional haze plan, Alabama initially applied the State's criteria for identifying emissions units eligible for a reasonable progress control analysis as a screening tool to identify Class I areas outside of the State potentially impacted by Alabama sources. Alabama identified the following Class I areas as potentially impacted by Alabama sources: Cohutta Wilderness Area in Georgia; Joyce Kilmer-Slickrock Wilderness Area in North Carolina; St. Marks Wilderness Area in Florida; and Breton Wilderness Area in Louisiana.¹⁰ Additionally, North Carolina identified an Alabama source (Tennessee Valley Authority (TVA)—Widows Creek) as meeting North Carolina's threshold for a reasonable progress control evaluation at one of its Class I areas (Joyce Kilmer-Slickrock Wilderness Area). Alabama determined that there were no additional controls that would be reasonable to require of this source for the first implementation period. Alabama also consulted with Florida, Georgia, and Louisiana and concluded that no Alabama sources were identified by these states as meeting their criteria for a reasonable progress control evaluation.¹¹

¹⁰ See 77 FR 11956.

¹¹ See 77 FR 11956 and Appendix J of Alabama's 2008 regional haze plan.

EPA proposes to find that Alabama has adequately addressed the applicable provisions under 40 CFR 51.308(g) regarding the implementation status of control measures because the State described the implementation of measures within Alabama, including BART at BART-subject sources for NOX and SO2.

2. Emissions Reductions

As discussed in Section II.A.1. of this notice, Alabama focused its assessment in its regional haze plan and Progress Report on SO2 emissions from EGUs because of VISTAS' findings that ammonium sulfate is the primary component of visibility-impairing pollution in the VISTAS states. In its Progress Report, Alabama provides 2002, 2005, 2008, 2011, and 2012 SO2 emissions data from EPA's Clean Air Markets Division (CAMD) for EGUs in the State. Actual SO2 emissions reductions from 2002-2012 for these Alabama EGUs (319,428 tons) have already exceeded the projected SO2 emissions reductions from 2002 to 2018 estimated in Alabama's regional haze plan for these EGUs (312,397 tons).¹² Alabama also includes cumulative volatile organic compounds (VOC), fine particulate matter (PM2.5), coarse particulate matter (PM10), ammonia (NH3), SO2, and NOX emissions data from 2002, 2007, and 2011 for point sources. For the five-year period covered by the Progress Report, the 2011 National Emissions Inventory (NEI) was the latest available inventory.¹³ This data shows a decline in these emissions over this time period and shows that the SO2 reductions are greater than those estimated for these units between 2002-2018 in the State's regional haze plan. The emissions reductions identified by Alabama are due, in part, to the implementation of measures included in the State's regional haze plan.

¹² Progress Report, Figure 4, p. 14.

¹³ See the EPA's website for additional data and documentation for the 2011 version of the NEI (https://www.epa.gov/air-emissions-inventories/2011-national-emissions-inventory-nei-data).

EPA proposes to find that Alabama has adequately addressed the applicable provisions of 40 CFR 51.308(g) regarding emissions reductions because the State identifies SO2 emissions reductions from EGUs in Alabama, the largest sources of SO2 emissions in the State.

3. Visibility Conditions

The provisions under 40 CFR 51.308(g) require that states with Class I areas within their borders provide information on current visibility conditions and the difference between current visibility conditions and baseline visibility conditions expressed in terms of five-year averages of these annual values.

Alabama's Progress Report provides visibility monitoring data for the Sipsey Wilderness Area. Alabama reported current visibility conditions as the 2009-2013 five-year time period and used the 2000-2004 baseline period for the State's Class I area.¹⁴ Alabama also provided 20 percent worst day and 20 percent best day visibility data for each year from 2004-2013 in terms of five-year averages. Table 1 shows the visibility conditions for the 2009-2013 five-year time period, the difference between the current visibility conditions and baseline visibility conditions, and the RPGs for the Sipsey Wilderness Area in the State's 2008 regional haze plan.

¹⁴ For the first regional haze plans, “baseline” conditions were represented by the 2000-2004 time period. See 64 FR 35730 (July 1, 1999).

Table 1—Baseline Visibility, RPGs, and Current Visibility in Alabama's Class I Area
[Deciviews]
Class I area | Baseline (2000-2004) | RPGs (2018) | Current (2009-2013)
20 Percent Best Days
Sipsey Wilderness Area | 15.6 | 14.22 | 12.82
20 Percent Worst Days
Sipsey Wilderness Area | 29.0 | 23.53 | 22.91

As shown in Table 1, the Sipsey Wilderness Area saw an improvement in visibility between baseline and the 2009-2013 time period.¹⁵

¹⁵ Progress Report, Table 3, p. 15.

EPA proposes to find that Alabama has adequately addressed the applicable provisions under 40 CFR 51.308(g) regarding visibility conditions because the State provided baseline visibility conditions, visibility conditions for the 2009-2013 five-year time period, the difference between these sets of visibility conditions, and five-year visibility averages at the Sipsey Wilderness Area from 2004-2013.

4. Emissions Tracking

In its Progress Report, Alabama presents data from a statewide actual emissions inventory for 2007, developed through the Southeastern Modeling, Analysis and Planning (SEMAP) partnership and compares this data to the baseline emissions inventory for 2002 (actual emissions). The pollutants inventoried include: VOC, NH3, NOX, PM2.5, PM10, and SO2. The emissions inventories include the following source classifications: Point, area, biogenic (e.g., VOC from vegetation, emissions from fires), non-road mobile, and on-road mobile sources. As discussed in Section II.A.2, above, Alabama also presented 2002, 2005, 2008, 2011, and 2012 SO2 data for EGUs in Alabama and 2011 emissions for point sources in Alabama.

SEMAP estimated on-road mobile source emissions in the 2007 inventory using EPA's MOVES model. This model tends to estimate higher emissions for NOX and particulate matter than its previous counterpart, EPA's MOBILE6.2 model, used by the State to estimate on-road mobile source emissions for the 2002 inventories. Due in part to the change in methodology, there are increases in NOX, PM2.5 and PM10, in the 2007 actual on-road emissions, while VOC, NH3 and SO2 mobile emissions show decreases from the actual 2002 emissions, as can be seen when comparing Tables 2 and 3. Apart from this, decreases in total pollutant emissions can be seen for each pollutant potentially impacting visibility.

Additionally, ADEM included the 2011 point source actual emissions inventory from the 2011 NEI, Version 2, included in Table 4, below. The actual point source emissions in 2011 showed significant reductions for all pollutants when compared to both the 2002 and 2007 inventories. These point source emissions have already exceeded the reductions expected in the 2018 projected year inventory, which can be seen in Table 5, below.

Table 2—2002 Actual Emissions Inventory Summary for Alabama
[tpy]
Source category | VOC | NOX | PM2.5 | PM10 | NH3 | SO2
Point | 49,323 | 238,007 | 23,353 | 33,084 | 2,121 | 520,217
Area | 209,200 | 34,900 | 101,442 | 444,259 | 60,275 | 54,812
On-Road Mobile | 137,086 | 170,047 | 3,006 | 4,188 | 5,968 | 7,386
Non-Road Mobile | 60,487 | 65,366 | 4,526 | 4,949 | 33 | 7,584
Biogenic | 1,751,809 | 14,873 | 0 | 0 | 0 | 0
Total | 2,207,904 | 523,191 | 132,328 | 486,481 | 68,397 | 590,000

Table 3—2007 Actual Emissions Inventory Summary for Alabama
[tpy]
Source category | VOC | NOX | PM2.5 | PM10 | NH3 | SO2
Point | 38,877 | 197,963 | 24,930 | 34,776 | 2,191 | 526,620
Area | 79,030 | 3,940 | 41,587 | 349,981 | 62,426 | 431
On-Road Mobile | 77,078 | 172,668 | 5,887 | 7,861 | 2,823 | 1,509
Non-Road Mobile | 52,230 | 63,588 | 4,121 | 4,424 | 46 | 3,469
Biogenic | 1,745,263 | 9,785 | 0 | 0 | 0 | 0
Total | 1,992,478 | 447,944 | 76,525 | 397,042 | 67,486 | 532,029

Table 4—2011 Actual Emissions Inventory Summary of Point Sources for Alabama
[tpy] ¹⁶
Source category | VOC | NOX | PM2.5 | PM10 | NH3 | SO2
Point | 26,077 | 121,962 | 11,124 | 17,093 | 1,874 | 245,802

Table 5—2018 Projected Actual Emissions Inventory Summary of Point Sources for Alabama
[tpy] 17 18
Source category | VOC | NOX | PM2.5 | PM10 | NH3 | SO2
Point | 57,243 | 142,676 | 27,366 | 37,746 | 3,536 | 249,075

EPA is proposing to find that Alabama adequately addressed the provisions of 40 CFR 51.308(g) regarding emissions tracking because the State compared the most recent updated emission inventory data for the five-year period covered by the Progress Report with the baseline emissions used in the modeling for the regional haze plan. Furthermore, Alabama evaluated EPA Air Markets Program Data ¹⁹ SO2 emissions data from 2002-2012 for EGUs in the State because ammonium sulfate is the primary component of visibility-impairing pollution in the VISTAS states, and EGUs are the largest source of SO2 in the State.

¹⁶ ADEM included the entire 2011 emissions inventory summary in Appendix A of its Progress Report. This inventory shows decreases in total emissions for all pollutants since 2002 and 2007.

¹⁷ See Section 7 of Alabama's 2008 regional haze plan and page 18 of the Progress Report for the complete inventory.

¹⁸ The Progress Report lists SO2 projected 2018 point source emissions as 418,486 tpy. This is an error in carrying over information from the 2008 Alabama regional haze plan. The correct value is provided in Table 5. See Table 7.2.3-2 of the 2008 regional haze plan, p. 52 and 77 FR 11945.

¹⁹ EPA Air Markets Program Data is available at: https://ampd.epa.gov/ampd/.

5. Assessment of Changes Impeding Visibility Progress

In its Progress Report, Alabama documented that sulfates, which are formed from SO2 emissions, continue to be the biggest single contributor to regional haze for the Sipsey Wilderness Area, and therefore focused its analysis on large SO2 emissions from point sources.²⁰ In its 2008 regional haze plan, Alabama notes that sulfates account for 75 percent of the visibility impairment on the 20 percent worst days and 50 percent of visibility impairment on the 20 percent best days over the 2000-2004 period. In addressing the requirements at 40 CFR 51.308(g)(5), Alabama shows in the Progress Report that the overall contribution of sulfates toward visibility impairment has been reduced to 64 percent over the 2008-2012 period for the 20 percent worst days and remained approximately the same for the 20 percent best days. Alabama also examines other potential pollutants of concern affecting visibility at the Sipsey Wilderness Area. Furthermore, the Progress Report shows that visibility averages for the five-year period 2009-2013 are better than the 2018 RPGs for the Sipsey Wilderness Area and that SO2 emissions reductions from 2002-2012 for EGUs in Alabama have exceeded the projected reductions from 2002-2018 in the regional haze plan.

²⁰ See Figures 9 and 10 in the Progress Report.

EPA proposes to find that Alabama has adequately addressed the provisions of 40 CFR 51.308(g) regarding an assessment of significant changes in anthropogenic emissions for the reasons discussed above.

6. Assessment of Current Strategy

Alabama believes that it is on track to meet the 2018 RPGs for the Sipsey Wilderness Area, and that the State's sources will not impede Class I areas outside of Alabama from meeting their RPGs based on the trends in visibility and emissions presented in its Progress Report. Alabama notes that the Interagency Monitoring of Protected Visual Environments (IMPROVE) visibility readings for 2009-2013 generally show greater improvements in visibility than projected by the State in establishing the 2018 RPGs for the Sipsey Wilderness Area and that SO2 emissions from coal-fired EGUs in the State have decreased from 2002-2012 by more than the predicted decline in SO2 emissions from these sources for the first implementation period in Alabama's 2008 regional haze plan. Alabama expects that these emissions will continue to decrease through the first regional haze implementation period.

As discussed above, Alabama identified the following Class I areas as potentially impacted by Alabama sources: Cohutta Wilderness Area in Georgia; Joyce Kilmer-Slickrock Wilderness Area in North Carolina; St. Marks Wilderness Area in Florida; and Breton Wilderness Area in Louisiana. In its Progress Report, Alabama notes that it has evaluated IMPROVE monitoring data from 2009-2013 for these Class I areas and that the trend for each of these areas is at or below the glidepath.²¹ The State concludes that given expected continued emission reductions, the trends for those areas should continue, and no additional controls are needed at this time to meet RPGs.

²¹ The “glidepath” is the rate of progress needed to reach natural visibility conditions by 2064 (also referred to as the “uniform rate of progress”). See 77 FR 11940.

Alabama notes that it consulted with other states during the development of its 2008 regional haze plan, including Florida, Georgia, Louisiana, and North Carolina. Of these states, North Carolina identified one unit in Alabama—TVA Widows Creek—as meeting North Carolina's criteria for a reasonable progress control evaluation and asked Alabama to share its reasonable progress control evaluation for this unit. Alabama determined that because this unit was subject to CAIR and had a scrubber installed, no additional controls were reasonable for this period. See 77 FR 11956. The State reiterates that after consultation with each of these states, Alabama was not requested to further evaluate any source relative to a regional Class I area. Additionally, the State did not request any out-of-state source to evaluate impacts on the Sipsey Wilderness Area because no source met the State's criteria for a reasonable progress analysis.

The State notes that, considering the trends in visibility in the IMPROVE network, and given SO2 reductions achieved, it is reasonable to assume that these conclusions still stand for the purposes of the Progress Report.

As discussed above, CAIR was implemented during the time period evaluated by ADEM for its Progress Report, CAIR has been replaced by CSAPR, and the requirements of CSAPR apply to sources in Alabama through the State's implementation plan. Alabama's fully approved regional haze plan, which now relies on CSAPR rather than CAIR, accordingly contains sufficient provisions to ensure that the RPGs of Class I areas in nearby states will be achieved.

EPA proposes to find that Alabama has adequately addressed the provisions of 40 CFR 51.308(g) regarding the strategy assessment. In its Progress Report, Alabama describes the improving visibility trends using data from the IMPROVE network and the downward emissions trends in key pollutants, with a focus on SO2 emissions from EGUs in the State. ADEM determined that its regional haze plan is sufficient to meet the RPGs for its own Class I area and the Class I areas outside the State potentially impacted by the emissions from Alabama. EPA preliminarily finds that Alabama's conclusion regarding the sufficiency of its regional haze plan is appropriate because CAIR was in effect in Alabama through 2014, providing the emission reductions relied upon in Alabama's regional haze plan through that date. CSAPR is now being implemented, and by 2018, the end of the first regional haze implementation period, CSAPR will reduce emissions of SO2 and NOX from EGUs in Alabama by the same amount assumed by EPA when the Agency originally issued the FIP for the State in June 2012, replacing reliance on CAIR with reliance on CSAPR. Because CSAPR, now adopted and implemented at the state level, will ensure the control of SO2 and NOX emissions reductions relied upon by Alabama and other states in setting their RPGs beginning in January 2015 at least through the remainder of the first implementation period in 2018, EPA is proposing to approve Alabama's finding that the plan elements and strategies in its implementation plan are sufficient to achieve the RPGs for the Class I area in the State and for Class I areas in nearby states potentially impacted by sources in the State.

7. Review of Current Monitoring Strategy

In its Progress Report, Alabama summarizes the existing monitoring network in the State to monitor visibility at the Sipsey Wilderness Area and concludes that no modifications to the existing visibility monitoring strategy are necessary. The primary monitoring network for regional haze, both nationwide and in Alabama, is the IMPROVE network. There is currently one IMPROVE site located in the Sipsey Wilderness Area.

The State explains the importance of the IMPROVE monitoring network for tracking visibility trends at the Class I area in Alabama. ADEM states that data produced by the IMPROVE monitoring network will be used for preparing the regional haze progress reports and SIP revisions, and thus, the monitoring data from the IMPROVE sites needs to be readily accessible and to be kept up to date. The Visibility Information Exchange Web System website has been maintained by VISTAS and the other Regional Planning Organizations to provide ready access to the IMPROVE data and data analysis tools.

In addition, ADEM operates a PM2.5 network of filter-based federal reference method monitors and filter-based speciation monitors. These PM2.5 measurements help ADEM characterize air pollution levels in areas across the State, and therefore aid in the analysis of visibility improvement in and near the Sipsey Wilderness Area.²²

²² See Figure 11 in the Progress Report, p. 24.

EPA proposes to find that Alabama has adequately addressed the applicable provisions of 40 CFR 51.308(g) regarding the monitoring strategy because the State reviewed its visibility monitoring strategy and determined that no further modifications to the strategy are necessary.

B. Determination of Adequacy of the Existing Regional Haze Plan

In its Progress Report, ADEM submitted a negative declaration to EPA that the existing regional haze plan requires no further substantive revision at this time to achieve the RPGs for Class I areas affected by the State's sources. The State's negative declaration is based on the findings from the Progress Report, including the findings that: Visibility has already improved at the Sipsey Wilderness Area in Alabama such that the visibility averages for the five-year period 2009-2013 are better than the RPGs for 2018; actual SO2 emissions reductions from coal-fired EGUs in Alabama exceed the predicted reductions in ADEM's 2008 regional haze plan; additional EGU control measures not relied upon in the State's 2008 regional haze plan have occurred or will occur during the first implementation period that will further reduce SO2 emissions; and emissions of SO2 from EGUs in Alabama are expected to continue to trend downward.

EPA proposes to conclude that Alabama has adequately addressed 40 CFR 51.308(h) because the visibility trends at the Sipsey Wilderness Area and at Class I areas outside of the State potentially impacted by sources within Alabama and the emissions trends of the largest emitters of visibility-impairing pollutants in the State indicate that the relevant RPGs will be met.

III. Proposed Action

EPA is proposing to approve Alabama's June 26, 2018, Regional Haze Progress Report as meeting the applicable regional haze requirements set forth in 40 CFR 51.308(g) and 51.308(h).

IV. Statutory and Executive Order Reviews

Under the CAA, the Administrator is required to approve a SIP submission that complies with the provisions of the Act and applicable Federal regulations. See 42 U.S.C. 7410(k); 40 CFR 52.02(a). Thus, in reviewing SIP submissions, EPA's role is to approve state choices, provided that they meet the criteria of the CAA. This action merely proposes to approve state law as meeting Federal requirements and does not impose additional requirements beyond those imposed by state law. For that reason, this proposed action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

List of Subjects in 40 CFR Part 52

Environmental protection, Air pollution control, Incorporation by reference, Intergovernmental relations, Nitrogen dioxide, Particulate matter, Reporting and recordkeeping requirements, Sulfur oxides, Volatile organic compounds.

Authority: 42 U.S.C. 7401 et seq.

Dated: December 6, 2018.
Mary S. Walker,
Acting Regional Administrator, Region 4.

[FR Doc. 2018-27357 Filed 12-17-18; 8:45 am]

BILLING CODE 6560-50-P